DEPARTMENT OF HOMELAND SECURITY

Coast Guard

[Docket No. USCG-2003-16158]

RIN 1625-AA77

Commercial Fishing Industry Vessels

AGENCY: Coast Guard, DHS.

ACTION: Notice of public meetings; reopening of comment period.

SUMMARY: The Coast Guard will hold public meetings to let members of the public present comments on the advance notice of proposed rulemaking (ANPRM) for commercial fishing industry vessels and reopen the previously announced public comment period. Two public meetings will be held at the Pacific Marine Expo in Seattle, WA, on November 21 and 22, 2008. This proposed rulemaking would consider several changes to the current regulations.

DATES: The Coast Guard will hold the public meetings on Friday, November 21, from 9 a.m. to 12 noon, and Saturday, November 22, from 9 a.m. to 12 noon, except that the meetings may close early if all business is finished. Other comments and related material must reach the Docket Management Facility on or before December 15, 2008. The comment period is reopened from August 12, 2008 to December 15, 2008.

ADDRESSES: The Coast Guard will hold these public meetings in conjunction with the Pacific Marine Expo in Seattle, WA, at the Qwest Field Event Center, 800 Occidental Ave S, Seattle, WA 98134.

You may submit comments identified by Coast Guard docket number USCG-2003-16158 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Same as mail address above, between 9 a.m. and 5 p.m., Monday through Friday, except Federal holidays. The telephone number is 202-366-9329.

(4) Fax: 202-493-2251.

FOR FURTHER INFORMATION CONTACT: If you have questions on this notice, call M.M. Rosecrans, Chief, Fishing Vessel Safety Division (CG-5433), U.S. Coast Guard, telephone 202-372-1245, or e-mail Michael.m.rosecrans@uscg.mil.

If you have questions on viewing or submitting material to the docket, call Renee V. Wright, Program Manager, Docket Operations, telephone 202-366-9826.

SUPPLEMENTARY INFORMATION:

Public Participation and Request for Comments

We encourage you to submit comments and related material on the Commercial Fishing Industry Vessels advance notice of proposed rulemaking (ANPRM) published in the Federal Register on March 31, 2008 (73 FR 16815). All comments received will be posted, without change, to http://www.regulations.gov and will include any personal information you have provided. We have an agreement with the Department of Transportation to use the Docket Management Facility.

Submitting comments: If you submit a comment, please include the docket number for this notice (USCG-2003-16158), and give the reason for each comment. You may submit your comments and material by electronic means, mail, fax, or delivery to the Docket Management Facility at the address under ADDRESSES; but please submit your comments and material by only one means. We recommend that you include your name and a mailing address, an e-mail address, or a phone number in the body of your document so that we can contact you if we have questions regarding your submission. If you submit them by mail or delivery, submit them in an unbound format, no larger than 8½ by 11 inches, suitable for copying and electronic filing. If you submit them by mail and would like to know that they reached the Facility, please enclose a stamped, self-addressed postcard or envelope. We will consider all comments and material received during the comment period. The comment period is hereby reopened; comments and related material must reach the Docket Management Facility on or before December 15, 2008.

Viewing the comments as well as other background documents available in the docket: To view the comments and other documents listed in the ANPRM, go to http://www.regulations.gov at any time. Enter the docket number for this notice (USCG-2003-16158) in the Search box, and click “Go >>.” If you do not have access to the internet, you may view the docket online by visiting the Docket Management Facility in Room W12-140 on the ground floor of the Department of Transportation West Building, 1200 New Jersey Avenue SE., Washington, DC 20590, between 9 a.m. and 5 p.m., Monday through Friday, except Federal holidays.

Privacy Act: Anyone can search the electronic form of all comments received into any of our dockets by the name of the individual submitting the comment (or signing the comment, if submitted on behalf of an association, business, labor union, etc.). You may review a Privacy Act, system of records notice regarding our public dockets in the January 17, 2008 issue of the Federal Register (73 FR 3316).

Procedural

These meetings are open to the public. Please note that the meetings may close early if all business is finished.

Information on Services for Individuals With Disabilities

For information on facilities or services for individuals with disabilities or to request special assistance at the meeting(s), contact the Coast Guard at the number listed in the FOR FURTHER INFORMATION CONTACT as soon as possible.

Background and Purpose

In addition to announcing public meetings, the Coast Guard is reopening the public comment period announced in the ANPRM from August 12, 2008 to December 15, 2008.

Commercial fishing remains one of the most hazardous occupations in the United States. Congress addressed this problem by enacting the Commercial Fishing Industry Vessel Safety Act of 1988 (“the 1988 Act,” Pub. L. 100-424, as subsequently amended; see generally, 46 U.S.C. chapter 45, “Uninspected Commercial Fishing Industry Vessels”). The Act directed the Secretary of Transportation to provide safety requirements for fishing vessels, fish processing vessels, and fish tender vessels. It also established the Commercial Fishing Industry Vessel Safety Advisory Committee (CFIVSAC) to advise the Secretary on matters relating to the safe operation of commercial fishing vessels.

Coast Guard regulations under the 1988 Act were first issued on August 14, 1991 (56 FR 40364), and were further addressed in the following documents:

• August 3, 1992, interim rule (57 FR 34188) that amended the 1991 immersion suit requirements in 46 CFR 28.110, but advised the public that immersion suits would be the subject of further rulemaking;

• October 27, 1992, SNPRM (57 FR 48670) that proposed the adoption of stability regulations for vessels less than 79 feet in length;

• May 20, 1993, NPRM (58 FR 29502) that proposed further changes to immersion suit requirements;

• October 24, 1995, final rule (60 FR 54441) that adopted regulations for Aleutian Trade Act vessels;

• November 5, 1996, interim rule (61 FR 57268) that adopted safety equipment and vessel operating procedure regulations and deferred further action on the 1992 SNPRM's proposal to extend stability regulations to smaller vessels;

• September 4, 1997, final rule (62 FR 46672) that finalized the 1996 regulations with some changes; and

• July 15, 1998, notice (63 FR 38141) that announced the termination of the 1993 NPRM and the Coast Guard's plans for a subsequent rulemaking to address immersion suits, vessel stability, and other commercial fishing industry vessel issues.

These documents, as well as other background documents, are available in the docket. Each document may be downloaded.

Dated: August 1, 2008.
J.G. Lantz,
U.S. Coast Guard, Director of Commercial Regulations and Standards.

[FR Doc. E8-18532 Filed 8-11-08; 8:45 am]

BILLING CODE 4910-15-P